DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of intent to evaluate and notice of availability of final findings.

SUMMARY: The NOAA Office of Ocean and Coastal Resource Management (OCRM) announces its intent to evaluate the performance of the Grand Bay (Mississippi) National Estuarine Research Reserve, the Alabama Coastal Management Program, and the Virgin Islands Coastal Management Program.

The Coastal Zone Management Program evaluations will be conducted pursuant to section 312 of the Coastal Zone Management Act of 1972, as amended (CZMA) and regulations at 15 CFR Part 923, Subpart L. The National Estuarine Research Reserve evaluation will be conducted pursuant to sections 312 and 315 of the CZMA and regulations at 15 CFR part 921, subpart E and part 923, subpart L. The CZMA requires continuing review of the performance of states with respect to coastal program implementation. Evaluation of Coastal Management Programs and National Estuarine Research Reserves requires findings concerning the extent to which a state has met the national objectives, adhered to its Coastal Management Program document or Reserve final management plan approved by the Secretary of Commerce, and adhered to the terms of financial assistance awards funded under the CZMA.

Each evaluation will include a site visit, consideration of public comments, and consultations with interested Federal, State, and local agencies and members of the public. A public meeting will be held as part of each site visit. Notice is hereby given of the dates of the site visits for the listed evaluations, and the dates, local times, and locations of the public meetings during the site visits.

Dates and Times: The Grand Bay (Mississippi) National Estuarine Research Reserve evaluation site visit will be held November 27-30, 2007. One public meeting will be held during the week. The public meeting will be held on Tuesday, November 27, 2007, at 6:30 p.m. at the East Jackson County/Orange Grove Community Center, 9313 Old Stage Road, Moss Point, Mississippi.

The Alabama Coastal Management Program evaluation site visit will be held December 3-7, 2007. One public meeting will be held during the week. The public meeting will be held on Monday, December 3, 2007, at 5:30 p.m. at 5 Rivers—Alabama's Delta Resource Center, Tensaw Theater, 30945—5 Rivers Boulevard, Spanish Fort, Alabama.

The Virgin Islands Coastal Management Program evaluation site visit will be held December 3-7, 2007. Three public meetings will be held during the week. The first public meeting will be held on Tuesday, December 4, 2007, at 6 p.m. at the Cyril E. King Airport Terminal Building, Second Floor, Department of Planning and Natural Resources Conference Room, 8100 Lindberg Bay, St. Thomas. The second public meeting will be held on Wednesday, December 5, 2007, at 6 p.m. at the Henry Rohlsen Airport, Second Floor, Port Authority Conference Room, St. Croix. The third public meeting will be held on Thursday, December 6, 2007, at 6 p.m. at the St. John Legislature Conference Room, 109 Enigned Contant, St. John.

ADDRESSES: Copies of states' most recent performance reports, as well as OCRM's evaluation notification and supplemental information request letters to the states, are available upon request from OCRM. Written comments from interested parties regarding these Programs are encouraged and will be accepted until 15 days after the public meeting held for a Program. Please direct written comments to Bill O'Beirne, Acting Chief, National Policy and Evaluation Division, Office of Ocean and Coastal Resource Management, NOS/NOAA, 1305 East-West Highway, 10th Floor, N/ORM7, Silver Spring, Maryland 20910. When the evaluation is completed, OCRM will place a notice in the Federal Register announcing the availability of the Final Evaluation Findings.

SUPPLEMENTARY INFORMATION: Notice is hereby given of the availability of the final evaluation findings for the Weeks Bay (Alabama) and Waquoit Bay (Massachusetts) National Estuarine Research Reserves (NERRs). Sections 312 and 315 of the Coastal Zone Management Act of 1972 (CZMA), as amended, require a continuing review of the performance of coastal states with respect to the operation and management of NERRs. The Weeks Bay and Waquoit Bay NERRs were found to be adhering to programmatic requirements of the NERR System and the programmatic terms of their financial assistance awards.

Copies of these final evaluation findings may be obtained upon written request from: Bill O'Beirne, Acting Chief, National Policy and Evaluation Division, Office of Ocean and Coastal Resource Management, NOS/NOAA, 1305 East-West Highway, 10th Floor, N/ORM7, Silver Spring, Maryland 20910, or Bill.O'Beirne@noaa.gov.

FOR FURTHER INFORMATION CONTACT: Bill O'Beirne, Acting Chief, National Policy and Evaluation Division, Office of Ocean and Coastal Resource Management, NOS/NOAA, 1305 East-West Highway, 10th Floor, N/ORM7, Silver Spring, Maryland 20910, (301) 563-1160.

Federal Domestic Assistance Catalog 11.419 Coastal Zone Management Program Administration

Dated: October 9, 2007.
Elizabeth R. Scheffler,
CFO/CAO, National Ocean Service, National Oceanic and Atmospheric Administration.

[FR Doc. E7-20158 Filed 10-11-07; 8:45 am]

BILLING CODE 3510-08-P